FEDERAL COMMUNICATIONS COMMISSION

Public Information Collection(s) Requirement Submitted to OMB for Emergency Review and Approval

February 21, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 2, 2003. If you anticipate that you will be submitting comments, but find it difficult to do so within the period of time allowed by this notice, you should advise the contacts listed below as soon as possible.

ADDRESSES: Direct all comments to Kim A. Johnson, Office of Management and Budget, Room 10236 NEOB, Washington, DC 20503, (202) 395-7232 or via Internet at Kim_A._Johnson@omb.eop.gov, and Les Smith, Federal Communications Commission, Room 1-A804, 445 12th Street, SW., Washington, DC 20554 or via Internet to lesmith@fcc.gov.

FOR FURTHER INFORMATION CONTACT: For additional information or copies of the information collections contact Les Smith at (202) 418-0217 or via Internet at lesmith@fcc.gov.

SUPPLEMENTARY INFORMATION: The Commission has requested emergency OMB review of this collection with an approval by February 20, 2003.

OMB Control Number: 3060-0113.

Type of Review: Revision of a currently approved collection.

Title: Broadcast EEO Program Report, FCC Form 396.

Form Number: FCC 396.

Respondents: Business or other for-profit entities; Not-for-profit institutions.

Number of Respondents: 2,000.

Estimated Time per Response: 1.5 hours.

Frequency of Response: Recordkeeping; Renewal reporting requirement.

Total Annual Burden: 3,000 hours.

Total Annual Cost: $100,000.

Needs and Uses: On November 7, 2002, the FCC adopted a Second Report and Order and Third NPRM (Second R&O), MM Docket No. 98-204, FCC 02-303, which established new EEO rules and forms to comply with the court's decision in MD/DC/DE Broadcasters Association v. FCC. The new rules reinstate the requirement that broadcast licensees file the FCC Form 396 at the time they file for renewal of license. The new EEO rules also ensure equal employment opportunity in broadcast and multi-channel video program distributor industries through outreach to the community in recruitment and prevention of employment discrimination. Among other things, the Second R&O affords broadcasters with five or more full-time employees maximum flexibility in designing EEO programs while ensuring broad dissemination of full-time employment opportunities. These broadcasters must file annually an EEO public file report detailing their outreach efforts. In addition, licensees must include a narrative statement demonstrating how the station achieved an inclusive outreach in the prior two years and report the status of any employment discrimination complaints.

OMB Control Number: 3060-0120.

Type of Review: Revision of a currently approved collection.

Title: Broadcast Equal Employment Opportunity Model Program Report, FCC Form 396-A.

Form Number: FCC 396-A.

Respondents: Business or other for-profit entity; Not-for-profit institutions.

Number of Respondents: 5,000.

Estimated Time per Response: 1 hour.

Frequency of Response: On occasion reporting requirement.

Total Annual Burden: 5,000 hours.

Total Annual Cost: None.

Needs and Uses: On November 7, 2002, the FCC adopted a Second Report and Order and Third NPRM (Second R&O), MM Docket No. 98-204, FCC 02-303, which established new EEO rules and forms to comply with the court's decision in MD/DC/DE Broadcasters Association v. FCC. The new rules reinstate the requirement that broadcast licensees file the FCC Form 396-A at the time they file applications for construction permits, or assignments or transfers of license. The new EEO rules also ensure equal employment opportunity in broadcast and multi-channel video program distributor industries through outreach to the community in recruitment and prevention of employment discrimination. While FCC Form 396-A remains almost entirely the same as the form used under the rules adopted in 2000, the Second R&O also builds in flexibility for licensees to implement a program in compliance with the new rules, i.e., it allows for a range of community outreach programs to those interested in broadcast careers, and broadcasters with five or more full-time employees may list recruitment sources they plan to use.

OMB Control Number: 3060-0212.

Type of Review: Revision of a currently approved collection.

Title: Section 73.2080, Equal Employment Opportunities (EEO Rule).

Form Number: N/A.

Respondents: Business or other for-profit entities; Not-for-profit institutions.

Number of Respondents: 10,825.

Estimated Time per Response: 42 hours.

Frequency of Response: Recordkeeping; Annual reporting requirement.

Total Annual Burden: 454,650 hours.

Total Annual Cost: None.

Needs and Uses: On November 7, 2002, the FCC adopted a Second Report and Order and Third NPRM (Second R&O), MM Docket No. 98-204, FCC 02-303, which established new EEO rules and forms to comply with the court's decision in MD/DC/DE Broadcasters Association v. FCC. The new EEO rules ensure equal employment opportunity in broadcast and multi-channel video program distributor industries through outreach to the community in recruitment and prevention of employment discrimination. Specifically, the Second R&O adopts EEO recordkeeping and reporting requirements; specifies which EEO materials must be kept in the public inspection file; and requires all broadcasters to adhere to the EEO rules' general anti-discrimination provisions. Only station employment units with five or more full-time employees are subject to the EEO program provisions. Among other requirements, broadcasters must widely distribute job vacancy information and provide full-time job vacancy information to requesting organizations. Broadcasters must also retain records to demonstrate that they have recruited for all full-time permanent positions, i.e., full-time vacancy filled, listings of recruitment sources, dated copies of advertisements, etc., and place such types of records annually in their local public inspection file.

OMB Control Number: 3060-0349.

Type of Review: Revision of a currently approved collection.

Title: Equal Employment Opportunity Requirements.

Form Number: N/A.

Respondents: Business or other for-profit entities; Not-for-profit institutions.

Number of Respondents: 2,125.

Estimated Time per Response: 42 hours.

Frequency of Response: Recordkeeping; Annual and five year reporting requirements.

Total Annual Burden: 89,250 hours.

Total Annual Cost: None.

Needs and Uses: On November 7, 2002, the FCC adopted a Second Report and Order and Third NPRM (Second R&O), MM Docket No. 98-204, FCC 02-303, which established new EEO rules and forms to comply with the court's decision in MD/DC/DE Broadcasters Association v. FCC. Among other things, the Second R&O adopts several EEO recordkeeping and reporting requirements. It specifies which EEO materials must be kept in the public inspection file. All multi-channel video program distributor (MVPD) employment units with six or more full-time employees are subject to EEO program provisions and must disseminate employment information widely. MVPDs must also retain records to demonstrate they have recruited for all full-time permanent positions and must place a listing of all full-time vacancies filled and recruitment sources used for each vacancy for the preceding year in their EEO records file.

OMB Control Number: 3060-0922.

Type of Review: Revision of a currently approved collection.

Title: Broadcast Mid-Term Report, FCC Form 397.

Form Number: FCC 397.

Respondents: Business or other for-profit entities; Not-for-profit institutions.

Number of Respondents: 4,300.

Estimated Time per Response: 0.5 hours.

Frequency of Response: Recordkeeping; Mid-point reporting requirement.

Total Annual Burden: 269 hours (one-eighth of respondents file annually).

Total Annual Cost: None.

Needs and Uses: On November 7, 2002, the FCC adopted a Second Report and Order and Third NPRM (Second R&O), MM Docket No. 98-204, FCC 02-303, which established new EEO rules and forms to comply with the court's decision in MD/DC/DE Broadcasters Association v. FCC. The new rules adopt a new version of FCC Form 397. The new EEO rules also ensure equal employment opportunity in the broadcast and multi-channel video program distribution industries through outreach to the community in recruitment and prevention of employment discrimination. The new version of FCC Form 397 is filed only once at the mid-point of the eight-year license term of television licensees, with five or more full-time employees, and radio licensees, with ten or more full-time employees. Licensees must certify that they have complied with the FCC's EEO rules during the period prior to the date of the Mid-Term Report and must include copies of EEO reports that are required to be placed in the licensees' local public file for the prior two years.

OMB Control Number: 3060-XXXX.

Type of Review: New collection.

Title: Multi-Channel Video Program Distributor EEO Program Annual Report, FCC Form 396-C.

Form Number: FCC 396-C.

Respondents: Business or other for-profit entities; Not-for-profit institutions.

Number of Respondents: 2,200.

Estimated Time per Response: 10 mins. to 2.5 hrs.

Frequency of Response: Recordkeeping; Annual and five-year reporting requirements.

Total Annual Burden: 3,188 hours.

Total Annual Cost: None.

Needs and Uses: On November 7, 2002, the FCC adopted a Second Report and Order and Third NPRM (Second R&O), MM Docket No. 98-204, FCC 02-303, which established new EEO rules and forms to comply with the court's decision in MD/DC/DE Broadcasters Association v. FCC. The new EEO rules ensure equal employment opportunity in the broadcast and multi-channel video program distribution (MVPD) industries through outreach to the community in recruitment and prevention of employment discrimination. In addition, the Second R&O combined previous FCC Forms 395-A and 395-M, which requested substantially the same information. The FCC adopted new Form 396-C, which is substantially the same as those portions of FCC 395-A and 395-M that sought data about the MVPD's compliance with EEO program requirements, but it omits those portions of the prior forms that sought workforce data. All MVPDs must file an EEO report annually in the public file detailing their outreach efforts and the results for the prior year, as part of the in-depth MVPD investigation conducted once every five years.

Federal Communications Commission.
Marlene H. Dortch,
Secretary.

[FR Doc. 03-4828 Filed 2-28-03; 8:45 am]

BILLING CODE 6712-01-P